DEPARTMENT OF JUSTICE

[OMB Number 1110-0002]

Agency Information Collection Activities; Proposed eCollection eComments Requested

AGENCY: Federal Bureau of Investigation, Department of Justice.

ACTION: 30-Day notice.

SUMMARY: The Federal Bureau of Investigation, Criminal Justice Information Services Division, Department of Justice (DOJ), will be submitting the following information collection request to OMB for review and approval in accordance with the Paperwork Reduction Act (PRA) of 1995. The proposed information collection was previously published in the Federal Register on November 28, 2023, allowing a 60-day comment period.

DATES: Comments are encouraged and will be accepted for 30 days until March 1, 2024.

FOR FURTHER INFORMATION CONTACT: If you have comments especially on the estimated public burden or associated response time, suggestions, or need a copy of the proposed information collection instrument with instructions or additional information, please contact: Edward L. Abraham, Crime and Law Enforcement Statistics Unit Chief, FBI, CJIS Division, Module D-1, 1000 Custer Hollow Road, Clarksburg, West Virginia 26306, telephone: 304-625-4830, email: elabraham@fbi.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0002. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: Supplementary Homicide Report.

3. Agency form number, if any, and the applicable component of the Department of Justice sponsoring the collection: The form number is 1-704. The applicable component within the DOJ is the CJIS Division, FBI.

4. Affected public who will be asked or required to respond, as well as a brief abstract: Affected Public: State, local and tribal governments.

Abstract: Under Title 28, United States Code, Section 534(a) and (c), this collection requests homicide data from respondents in order for the FBI's Uniform Crime Reporting (UCR) Program to serve as the national clearinghouse for the collection and dissemination of homicide and other crime-related data and to publish these statistics. SHR collects details about all murders and nonnegligent manslaughters (including justifiable homicides) and negligent manslaughters. The details include the reporting agency; month and year; situation; age, sex, race, and ethnicity of the victim(s) and the offender(s); weapon type used; relationship of the victim(s) to the offender(s); and circumstance(s) surrounding the incident (e.g., argument, robbery, gang related), if known.

5. Obligation to Respond: Voluntary.

6. Total Estimated Number of Respondents: 6,652. Annually, those LEAs submit a total of 79,824 responses (6,652 LEAs × 12 months = 79,824 responses annually).

7. Estimated Time per Respondent: Nine (9) minutes.

8. Frequency: Once a month.

9. Total Estimated Annual Time Burden: 11,974 hours.

10. Total Estimated Annual Other Costs Burden: $107,000.

If additional information is required, contact: Darwin Arceo, Department Clearance Officer, Policy and Planning Staff, Justice Management Division, United States Department of Justice, Two Constitution Square, 145 N Street NE, 4W-218 Washington, DC 20530.

Dated: January 8, 2024.
Darwin Arceo,
Department Clearance Officer for PRA, U.S. Department of Justice.

[FR Doc. 2024-01868 Filed 1-30-24; 8:45 am]

BILLING CODE 4410-02-P